DEPARTMENT OF AGRICULTURE

Rural Housing Service

Notice of Request for Extension of a Currently Approved Information Collection

AGENCY: Rural Housing Service, USDA.

ACTION: Proposed collection; Comments requested.

SUMMARY: In accordance with the Paperwork Reduction Act of 1995, this notice announces the Rural Housing Service's intention to request an extension for a currently approved information collection in support of the regulation for Account Servicing Policies.

DATES: Comments on this notice must be received by April 24, 2006 to be assured of consideration.

FOR FURTHER INFORMATION CONTACT: Janet Stouder, Multi-Family Housing Portfolio Management Division, Rural Housing Service, STOP 0782, 1400 Independence Avenue, SW., Washington, DC 20250-0782; Telephone: (202) 720-9728.

SUPPLEMENTARY INFORMATION: Title: Account Servicing Policies.

OMB Number: 0575-0075.

Expiration Date of Approval: June 30, 2009.

Type of Request: Extension of a currently approved information collection.

Abstract: The Rural Housing Service provides supervised credit in the form of Multi-Family Housing and Community Facility loans and grants. 7 CFR part 1951, subpart A sets forth the policies and procedures, including the collection and use of information, regarding the application of payments on loans made under the programs administered by the agencies and the return of paid-in-full and satisfied promissory notes.

The programs are administered under the provisions of the Consolidated Farm and Rural Development Act (CONACT), as amended. Section 335(a) of the CONACT authorizes the Secretary of Agriculture to make the rules and regulations necessary to carry out the programs authorized within the Act.

Information collection is submitted by Agency borrowers to the local Agency office servicing the county in which their operation is located and is used by agency servicing officials.

Estimate of Burden: Public reporting burden for this collection of information is estimated to average .25 hours per response.

Respondents: Individuals or households and businesses and other for-profits.

Estimated Number of Respondents: 110.

Estimated Number of Responses per Respondent: 1.

Estimated Number of Responses: 110.

Estimated Total Annual Burden on Respondents: 28 hours.

Copies of this information collection can be obtained from Renita Bolden, Regulations and Paperwork Management Branch, at (202) 692-0035.

Comments

Comments are invited on: (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Renita Bolden, Regulations and Paperwork Management Branch, U.S. Department of Agriculture, Rural Development, STOP 0742, 1400 Independence Ave. SW., Washington, DC 20250.

All responses to this notice will be summarized and included in the request for OMB approval. All comments will also become a matter of public record.

Dated: February 8, 2006.
Russell T. Davis,
Administrator, Rural Housing Service.

[FR Doc. E6-2460 Filed 2-21-06; 8:45 am]

BILLING CODE 3410-XV-P